DEPARTMENT OF COMMERCE

National Oceanic and Atmospheric Administration

RIN: 0648-XQ69

Pacific Fishery Management Council; Public Meetings

AGENCY: National Marine Fisheries Service (NMFS), National Oceanic and Atmospheric Administration (NOAA), Commerce.

ACTION: Notice of two public meetings.

SUMMARY: Two meetings will be held to review a new assessment for petrale sole and develop control rules for specifying scientific uncertainty buffers in acceptable biological catch (ABC) specifications for groundfish and coastal pelagic species (CPS). The first meeting will be attended by the Groundfish Subcommittee of the Pacific Fishery Management Council's Scientific and Statistical Committee (SSC) to review a new assessment for petrale sole. Further, the SSC Groundfish Subcommittee will consider the scientific basis for considering estimated or alternative proxy target biomass levels or fishing mortality rates for petrale sole and other west coast flatfish stocks. The second meeting will be attended by the Groundfish and CPS Subcommittees of the SSC to develop new control rules for deciding scientific uncertainty buffers for groundfish and CPS species compliant with new National Standard 1 guidelines. Both meetings are work sessions which are open to the public.

DATES: The SSC Groundfish Subcommittee meeting to review the new petrale sole assessment will be held beginning at 8:30 a.m., Monday, August 31, 2009 and will end at 5:30 p.m. or as necessary to complete business.The SSC Groundfish and CPS Subcommittees meeting to develop control rules for scientific uncertainty buffers for groundfish and CPS species will be held beginning at 8:30 a.m., Tuesday, September 1, 2009. The meeting will continue on Wednesday, September 2, 2009 beginning at 8:30 a.m. The meeting will end at 5:30 p.m. each day, or as necessary to complete business.

ADDRESSES: Both SSC Subcommittee meetings will be held at the NOAA Western Regional Center's Sand Point Facility, Alaska Fisheries Science Center, Building 4, Traynor Room, 7600 Sand Point Way N.E., Seattle, WA 98115-6349; telephone: (206) 526-6548.

Council address: Pacific Fishery Management Council, 7700 NE Ambassador Place, Suite 101, Portland, OR 97220-1384.

FOR FURTHER INFORMATION CONTACT: Mr. John DeVore, Pacific Fishery Management Council; telephone: (503) 820-2280.

SUPPLEMENTARY INFORMATION: The purpose of the first SSC Groundfish Subcommittee meeting is to review a new draft stock assessment for petrale sole and any other pertinent information, work with the Stock Assessment Team to make necessary revisions, and ultimately produce an SSC report for use by the Council family and other interested persons.

The purpose of the second SSC Groundfish and CPS Subcommittees meeting is to review groundfish and CPS assessments, requested analyses, and any other pertinent information to develop new control rules for deciding scientific uncertainty buffers for ABC specifications for groundfish and CPS species. An SSC report will ultimately be produced incorporating recommendations and considerations developed by the two SSC Subcommittees.

No management actions will be decided at these SSC Subcommittee meetings. The SSC Subcommittees' role will be development of recommendations and reports for consideration by the SSC and the Council at its September meeting in Foster City, CA.

Entry to the NOAA Western Regional Center's Sand Point Facility requires visitors to show a valid picture ID and register with security. A visitor's badge, which must be worn while at the NOAA Western Regional Center's Facility, will be issued to non-Federal employees participating in the meeting. Non-U.S. citizens will require advance security clearance and should call (206) 526-6548 at least 2 days prior to the meeting date.

Although non-emergency issues not contained in the meeting agendas may come before the meeting participants for discussion, those issues may not be the subject of formal action during these meetings. SSC Subcommittee action will be restricted to those issues specifically listed in this notice and any issues arising after publication of this notice that require emergency action under Section 305(c) of the Magnuson-Stevens Fishery Conservation and Management Act, provided the public has been notified of the meeting participants' intent to take final action to address the emergency.

Special Accommodations

These meetings are physically accessible to people with disabilities. Requests for sign language interpretation or other auxiliary aids should be directed to Ms. Carolyn Porter at (503) 820-2280 at least 5 days prior to the meeting date.

Dated: July 29, 2009.
Tracey L. Thompson,
Acting Director, Office of Sustainable Fisheries, National Marine Fisheries Service.

[FR Doc. E9-18433 Filed 7-31-09; 8:45 am]

BILLING CODE 3510-22-S